DEPARTMENT OF THE INTERIOR

Bureau of Indian Affairs

Request for Comments on Grazing Regulations Information Collection Renewal

AGENCY: Bureau of Indian Affairs, Interior.

ACTION: Notice of Submission of Information Collection to the Office of Management and Budget.

SUMMARY: The Bureau of Indian Affairs (BIA) is submitting to OMB the information collection, titled Grazing Permits, OMB Control Number 1076-0157 for renewal; or, for review and approval. The purpose of this data collection is to update and renew the information collected for 25 CFR 166 General Grazing Regulations as required by the Paperwork Reduction Act.

DATES: Submit comments on or before November 28, 2003.

ADDRESSES: You may submit comments on the information collection to the Desk Officer for Department of the Interior, by facsimile at (202) 395-6566 or you may send an e-mail to: OIRA_DOCKET@ omb.eop.gov.

Please send copy of comments to Bureau of Indian Affairs, Office of Trust Services, Division of Natural Resources, MS-3061-MIB, 1849 C Street NW., Washington, DC 20240, or by facsimile at (202) 219-0006.

FOR FURTHER INFORMATION CONTACT: You may request further information or obtain copies of the information collection request submission from James R. Orwin, (202) 208-6464, at the BIA Central Office in Washington, DC.

SUPPLEMENTARY INFORMATION: This collection of information is authorized under Public Law 103-177, the “American Indian Agricultural Resource Management Act,” as amended. Tribes, tribal organizations, individual Indians, and those entering into permits with tribes or individual Indians submit information required by the regulation. This information is used by the BIA to determine:

(a) Whether or not a permit for grazing may be approved or granted,

(b) The value of each permit,

(c) The appropriate compensation to landowners, and

(d) Provisions for violations of permit and trespass.

A request for comments on this information collection request appeared in the Federal Register May 27, 2003 (68 FR 28836). No comments were received. Further research has guided a change in the total annual burden hours and the total annual cost to respondents as shown on the 60 days notice. These changes are a result of additional information received from the field offices. The number of annual responses was changed from 4,200 to 6,670, the total annual burden to respondents was changed from 500 hours to 861 hours, and the total annual cost to respondents was changed from $2,500.00 to $4,305.00. An administrative fee of up to 3% of the annual grazing rental is collected to reimburse the BIA for administration of the grazing permit program. In recent years, administrative fees have generated approximately $175,000.00 per year.

Request for Comments: The Bureau of Indian Affairs requests you to send your comments on this collection to the locations listed in the ADDRESSES section. Your comments should address:

(a) The necessity of this information collection for the proper performance of the functions of the agency, including whether the information will have practical utility;

(b) The accuracy of the agency's estimate of the burden (hours and cost) of the collection of information, including the validity of the methodology and assumptions used;

(c) The ways we could enhance the quality, utility and clarity of the information to be collected; and

(d) The ways we could minimize the burden of the collection of the information on the respondents, such as through the use of automated collection techniques or other forms of information technology.

Please note that an agency may not sponsor or request, and an individual need not respond to, a collection of information unless it has a valid OMB Control Number.

It is our policy to make all comments available to the public for review at the location listed in the ADDRESSES section, room 3061, during the hours of 8 a.m.-4 p.m., EST Monday through Friday except for legal holidays. If you wish to have your name and/or address withheld, you must state this prominently at the beginning of your comments. We will honor your request according to the requirements of the law. All comments from organizations or representatives will be available for review. We may withhold comments from review for other reasons.

OMB has up to 60 days to make a decision on the submission for renewal, but may make the decision after 30 days. Therefore, to receive the best consideration of your comments, you should submit them closer to 30 days than 60 days.

OMB Approval Number: 1076-0157.

Title: Grazing Permits 25 CFR 166.

Brief Description of collection: Information is collected through a grazing permit application. Respondent supplies all information needed to prepare a grazing permit, including: name, address, range unit requested, number of livestock, season of use, livestock owner's brand, kind of livestock, mortgage holder information, ownership of livestock, and requested term of permit. Response is mandatory for respondents to supply the above information in order to obtain a grazing permit.

Type of review: Renewal.

Respondents: Possible respondents include: individual tribal members, individual non-Indians, individual tribal member-owned business, non-Indian owned businesses, tribal governments and landowners. Response is mandatory for respondents who wish to obtain a grazing permit.

Number of Respondents: 1,000.

Estimated Time per Response: 20 minutes (1/3 hour).

Frequency of Response: Annually and as needed.

Total Annual Responses: 6,670.

Total Annual Hourly Burden to Respondents: 861 hours.

Dated: October 23, 2003.
Aurene M. Martin,
Principal Deputy Assistant Secretary—Indian Affairs.

[FR Doc. 03-27250 Filed 10-28-03; 8:45 am]

BILLING CODE 4310-W7-P